DEPARTMENT OF COMMERCE

Foreign-Trade Zones Board

[Order No. 1177]

Approval for Extension of Authority of Board Order 735, Foreign-Trade Zone 9, Pacific Allied Products, Ltd. (Plastic Food/Beverage Containers), Honolulu, HI

Pursuant to its authority under the Foreign-Trade Zones Act of June 18, 1934, as amended (19 U.S.C. 81a-81u), the Foreign-Trade Zones Board (the Board) adopts the following Order:

Whereas, Board Order 735 (60 FR 26715, 5/18/95) granted authority on behalf of Pacific Allied Products, Ltd. (PAP) to manufacture plastic food/beverage containers under FTZ procedures subject to the following restrictions: (1) that manufacture under zone procedures was intended solely for the Hawaiian and export markets, and (2) the authority was approved at the outset for five years, subject to extension;

Whereas, the Department of Business, Economic Development & Tourism of the State of Hawaii, grantee of Foreign-Trade Zone 9, has requested authority, on behalf of PAP, to extend its manufacturing authority on a permanent basis by removing Restriction #2;

Whereas, notice inviting public comment has been given in the Federal Register (65 FR 36887, 6/12/00);

Whereas, the Board adopts the findings and recommendations of the examiner's report, and finds that the requirements of the FTZ Act and the Board's regulations are satisfied, and that approval of the request would be in the public interest if approval were subject to the restriction listed below;

Now, Therefore, the Board hereby approves the request subject to the FTZ Act and the Board's regulations, including § 400.28, and further to a restriction requiring that manufacture under zone procedures be solely for the Hawaiian and export markets.

Signed at Washington, DC, this 9th day of July 2001.
Faryar Shirzad,
Acting Assistant Secretary of Commerce for Import Administration, Alternate Chairman, Foreign-Trade Zones Board.
Dennis Puccinelli,
Executive Secretary.

[FR Doc. 01-17859 Filed 7-16-01; 8:45 am]

BILLING CODE 3510-DS-P